DEPARTMENT OF TRANSPORTATION

Federal Aviation Administration

14 CFR Part 39

[Docket No. FAA-2017-0433; Product Identifier 2016-SW-078-AD]

RIN 2120-AA64

Airworthiness Directives; Bell Helicopter Textron Canada Helicopters

AGENCY: Federal Aviation Administration (FAA), DOT.

ACTION: Notice of proposed rulemaking (NPRM).

SUMMARY: We propose to adopt a new airworthiness directive (AD) for Bell Helicopter Textron Canada (BHTC) Model 429 helicopters. This proposed AD would require inspecting each main rotor pitch link rod end bearing assembly (bearing) for wear and play. This proposed AD is prompted by reports of worn bearings. The actions of this proposed AD are intended to prevent an unsafe condition on these products.

DATES: We must receive comments on this proposed AD by May 7, 2018.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE, Washington, DC 20590-0001.

• Hand Delivery: Deliver to the “Mail” address between 9 a.m. and 5 p.m., Monday through Friday, except Federal holidays.

Examining the AD Docket

You may examine the AD docket on the internet at http://www.regulations.gov by searching for and locating Docket No. FAA-2017-0433; or in person at Docket Operations between 9 a.m. and 5 p.m., Monday through Friday, except Federal holidays. The AD docket contains this proposed AD, the Transport Canada AD, the economic evaluation, any comments received, and other information. The street address for Docket Operations (telephone 800-647-5527) is in the ADDRESSES section. Comments will be available in the AD docket shortly after receipt.

For service information identified in this proposed rule, contact Bell Helicopter Textron Canada Limited, 12,800 Rue de l'Avenir, Mirabel, Quebec J7J1R4; telephone (450) 437-2862 or (800) 363-8023; fax (450) 433-0272; or at http://www.bellcustomer.com/files/. You may review the referenced service information at the FAA, Office of the Regional Counsel, Southwest Region, 10101 Hillwood Pkwy., Room 6N-321, Fort Worth, TX 76177.

FOR FURTHER INFORMATION CONTACT: David Hatfield, Aviation Safety Engineer, Safety Management Section, Rotorcraft Standards Branch, FAA, 10101 Hillwood Pkwy., Fort Worth, TX 76177; telephone (817) 222-5110; email david.hatfield@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

Transport Canada, which is the aviation authority for Canada, has issued Canadian AD No. CF-2016-39, dated December 12, 2016, to correct an unsafe condition for BHTC Model 429 helicopters, serial numbers 57001 and subsequent. Transport Canada advises of reports of worn bearings adversely affecting the helicopters' handling qualities. Transport Canada states the scheduled inspection interval of 12 months or 800 hours is not sufficient to detect and correct a worn bearing under the current wear rate. Additionally, according to Transport Canada, the combination of the blade weight, positioning of the swashplate, and the preload of elastomers can make bearing play difficult to detect during a preflight exterior check. Transport Canada determined it necessary to implement an inspection frequent enough to detect a worn bearing in order to prevent a bearing from failing, adversely affecting handling qualities, and damaging adjacent components. These conditions could lead to loss of control of the helicopter. Transport Canada AD CF-2016-39 therefore requires inspecting bearing part number (P/N) 429-010-433-101/-103 for play and potential wear and replacing it if necessary, within 30 days from the effective date of its AD and at subsequent intervals not to exceed 50 hours air time.

FAA's Determination

These helicopters have been approved by the aviation authority of Canada and are approved for operation in the United States. Pursuant to our bilateral agreement with Canada, Transport Canada, its technical representative, has notified us of the unsafe condition described its AD. We are proposing this AD because we evaluated all known relevant information and determined that an unsafe condition is likely to exist or develop on other products of the same type design.

Related Service Information Under 1 CFR Part 51

We reviewed Bell Helicopter Alert Service Bulletin 429-11-03, Revision A, dated January 13, 2015 (ASB), which specifies inspecting bearing P/N 429-010-433-101 and P/N 429-010-433-103 within 10 flight hours and every 50 hours for play and potential wear.

This service information is reasonably available because the interested parties have access to it through their normal course of business or by the means identified in the ADDRESSES section.

Proposed AD Requirements

This proposed AD would require, within 20 hours time-in-service (TIS) and thereafter at intervals not to exceed 50 hours TIS, visually inspecting each bearing for wear and play. This proposed AD also would require replacing parts that exceed allowable limits before further flight.

Differences Between This Proposed AD and the Transport Canada AD

This proposed AD would require initially inspecting the bearing within 20 hours TIS, while the Transport Canada AD requires the initial inspection within 30 days.

Costs of Compliance

We estimate that this proposed AD would affect 64 helicopters of U.S. Registry and that labor costs average $85 per work-hour. Based on these estimates, we expect the following costs:

• Inspecting the bearing would require 2 work-hours and no parts for a cost of $170 per helicopter and $10,880 for the U.S. fleet per inspection cycle.

• Replacing a -101 bearing would require 1 work-hour and $3,560 for parts for a cost of $3,645 per bearing. Replacing a -103 bearing would require 1 work-hour and $3,365 for parts for a cost of $3,450 per bearing.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Bell Helicopter Textron Canada Limited: Docket No. FAA-2017-0433; Product Identifier 2016-SW-078-AD.

(a) Applicability

This AD applies to Bell Helicopter Textron Canada Limited Model 429 helicopters, serial numbers 57001 and larger, with a main rotor pitch link rod end bearing assembly (bearing) part number (P/N) 429-010-433-101 or 429-010-433-103 installed, certificated in any category.

(b) Unsafe Condition

This AD defines the unsafe condition as a worn bearing. This condition could result in failure of a bearing, which could lead to reduced helicopter handling, damage to other components, and subsequent loss of helicopter control.

(c) Comments Due Date

We must receive comments by May 7, 2018.

(d) Compliance

You are responsible for performing each action required by this AD within the specified compliance time unless it has already been accomplished prior to that time.

(e) Required Actions

Within 20 hours time-in-service (TIS) and thereafter at intervals not to exceed 50 hours TIS:

(1) Inspect the upper and lower pitch link rod ends for axial and radial bearing play by rolling the bearings through all angles, paying particular attention to the areas depicted in Figure 1 of Bell Helicopter Alert Service Bulletin 429-11-03, Revision A, dated January 13, 2015.

(2) If there is any play in a bearing, remove the pitch link assembly and perform a dimensional inspection of the axial and radial bearing play. Measure the play at the angle that results in the maximum amount of play. Replace the rod end assembly before further flight if bearing play exceeds 0.010 inch for axial direction or 0.005 inch for radial direction.

(f) Alternative Methods of Compliance (AMOCs)

(1) The Manager, Safety Management Section, Rotorcraft Standards Branch, FAA, may approve AMOCs for this AD. Send your proposal to: David Hatfield, Aviation Safety Engineer, Safety Management Section, Rotorcraft Standards Branch, FAA, 10101 Hillwood Pkwy, Fort Worth, TX 76177; telephone (817) 222-5110; email david.hatfield@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

The subject of this AD is addressed in Transport Canada AD No. CF-2016-39, dated December 12, 2016. You may view the Transport Canada AD on the internet at http://www.regulations.gov in the AD Docket.

(h) Subject

Joint Aircraft Service Component (JASC) Code: 6200, Main Rotor System.

Issued in Fort Worth, Texas, on February 21, 2018.
Scott A. Horn,
Deputy Director for Regulatory Operations, Compliance & Airworthiness Division, Aircraft Certification Service.

[FR Doc. 2018-04651 Filed 3-7-18; 8:45 am]

BILLING CODE 4910-13-P